DEPARTMENT OF THE INTERIOR

National Park Service

[N6839; NPS-WASO-NAGPRA-NPS0041747; PPWOCRADN0-PCU00RP14.R50000]

Notice of Inventory Completion: Robert S. Peabody Institute of Archaeology, Andover, MA

AGENCY: National Park Service, Interior.

ACTION: Notice.

SUMMARY: In accordance with the Native American Graves Protection and Repatriation Act (NAGPRA), the Robert S. Peabody Institute of Archaeology (RSPI) has completed an inventory of human remains and associated funerary objects and has determined that there is a cultural affiliation between the human remains and associated funerary objects and Indian Tribes or Native Hawaiian organizations in this notice.

DATES: Repatriation of the human remains and associated funerary objects in this notice may occur on or after February 12, 2026.

ADDRESSES: Send written requests for repatriation of the human remains and associated funerary objects in this notice to Ryan J. Wheeler, Robert S. Peabody Institute of Archaeology, Phillips Academy, 180 Main Street, Andover, MA 01810, email rwheeler@andover.edu.

SUPPLEMENTARY INFORMATION: This notice is published as part of the National Park Service's administrative responsibilities under NAGPRA. The determinations in this notice are the sole responsibility of the RSPI, and additional information on the determinations in this notice, including the results of consultation, can be found in its inventory or related records. The National Park Service is not responsible for the determinations in this notice.

Abstract of Information Available

Human remains representing, at least, 27 individuals have been identified. The 3,056 associated funerary objects are 584 lots of ceramic sherds; 257 lots of faunal remains; 2,051 lots of lithics, including rock samples and stone tools; 18 lots of sediment samples; 27 lots of charcoal and/or wood samples; 48 lots of shells and shell samples; one lot of mineral samples; 43 lots of metal items; 16 lots of glass shards; six lots of lead items; two lots of brick; and three lots of organic items. Morrill Point is a small peninsula on the northern edge of the Merrimack River estuary in the vicinity of Salisbury, Essex County, Massachusetts. From 1979 through at least the 1980s, James P. Whittall (1932-1998) of the Early Sites Research Society disturbed several Native American burial sites on Morrill Point, including Morrill Point Mound (19-ES-281) and several components of the Wheeler site, including Woodchuck Knoll, Red Jasper Knoll, and Rose Bud. The Morrill Point Mound was occupied during the Early Archaic Period (ca. 8500-8100 radiocarbon years BP) and the Woodland Period (1500-500 BP); the Wheeler site dates to the Woodland Period; and some of the site components include more recent occupation in the eighteenth and nineteenth centuries. Whittall loaned the individuals and funerary items that he removed from this locality to archaeologist Brian Robinson (1953-2016), University of Maine. Subsequently, Whittall's family transferred the Morrill Point holdings to the RSPI.

There is no known presence of any potentially hazardous substances, though due to storage in a basement, mold may be present and was noted when the holdings were on loan at the University of Maine.

Cultural Affiliation

Based on the information available and the results of consultation, cultural affiliation is clearly identified by the information available about the human remains and associated funerary objects described in this notice.

Determinations

The RSPI has determined that:

• The human remains described in this notice represent the physical remains of at least 27 individuals of Native American ancestry.

• The 3,056 objects described in this notice are reasonably believed to have been placed intentionally with or near individual human remains at the time of death or later as part of the death rite or ceremony.

• There is a connection between the human remains and associated funerary objects described in this notice and the Mashpee Wampanoag Tribe and the Wampanoag Tribe of Gay Head (Aquinnah).

Requests for Repatriation

Written requests for repatriation of the human remains and associated funerary objects in this notice must be sent to the authorized representative identified in this notice under ADDRESSES. Requests for repatriation may be submitted by:

1. Any one or more of the Indian Tribes or Native Hawaiian organizations identified in this notice.

2. Any lineal descendant, Indian Tribe, or Native Hawaiian organization not identified in this notice who shows, by a preponderance of the evidence, that the requestor is a lineal descendant or an Indian Tribe or Native Hawaiian organization with cultural affiliation.

Repatriation of the human remains and associated funerary objects described in this notice to a requestor may occur on or after February 12, 2026. If competing requests for repatriation are received, the RSPI must determine the most appropriate requestor prior to repatriation. Requests for joint repatriation of the human remains and associated funerary objects are considered a single request and not competing requests. The RSPI is responsible for sending a copy of this notice to the Indian Tribes and Native Hawaiian organizations identified in this notice and any other consulting parties.

Authority: Native American Graves Protection and Repatriation Act, 25 U.S.C. 3003, and the implementing regulations, 43 CFR 10.10.

Dated: January 5, 2026.
Melanie O'Brien,
Manager, National NAGPRA Program.

[FR Doc. 2026-00461 Filed 1-12-26; 8:45 am]

BILLING CODE 4312-52-P